NEIGHBORHOOD REINVESTMENT CORPORATION

Sunshine Act Meetings

TIME AND DATE: 1:00 p.m., Friday, September 13, 2024.

PLACE: via ZOOM.

STATUS: Parts of this meeting will be open to the public. The rest of the meeting will be closed to the public.

MATTERS TO BE CONSIDERED: Special Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: Special Topic

IV. Action Item: Approval of Special Topic Resolution

V. Discussion Item: Overview of Strategic Planning Process and Discussion Questions

VI. Discussion Item: Key Themes from Market Research and Internal Scan

VII. Discussion Item: Emerging Strategic Focus Areas

VIII. Discussion Item: Next Steps

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2024-20117 Filed 9-3-24; 4:15 pm]

BILLING CODE 7570-01-P